DEPARTMENT OF ENERGY

Federal Energy Regulatory Commission

[Docket No. CP24-514-000]

National Fuel Gas Supply Corporation; Notice of Availability of the Environmental Assessment for the Proposed Tioga Pathway Project

The staff of the Federal Energy Regulatory Commission (FERC or Commission) has prepared an environmental assessment (EA) for the Tioga Pathway Project (Project), proposed by National Fuel Gas Supply Corporation (National Fuel) in the above-referenced docket.¹ National Fuel requests authorization to provide 190,000 dekatherms per day of firm transportation service from the Tioga County, Pennsylvania natural gas production area to downstream delivery points with other interstate pipelines, which reach various end-use markets and demand centers in the United States and Canada, and modernize a portion of its existing pipeline system.

¹ For tracking purposes, the Council on Environmental Quality unique identification number for documents relating to this environmental review is EAXX-019-20-000-1728990440. 40 CFR 1501.5(c)(4) (2024).

The EA assesses the potential environmental effects of construction and operation of the Project in accordance with the requirements of the National Environmental Policy Act. FERC staff concludes that approval of the Project would not constitute a major Federal action significantly affecting the quality of the human environment.

The proposed Project includes the following facilities:

• Line Z20: Replace approximately 3.8 miles of 12-inch-diameter 1936-vintage bare steel pipeline with new 20-inch-diameter coated steel pipeline and perform modifications to an existing valve setting in Potter County, Pennsylvania;

• Line YM59: Install approximately 19.5 miles of new 20-inch-diameter coated steel pipeline beginning at the east end of the 3.8-mile Z20 Pipeline replacement, traversing Potter and Tioga Counties, Pennsylvania, and ending at the NFG Midstream Covington, LLC (Midstream) Lee Hill Interconnect;

• McCutcheon Hill OPP Station: Construct a new over-pressure protection (OPP) station at the interconnection between the eastern terminus of the Z20 Pipeline replacement and the western terminus of the YM59 Pipeline in Potter County;

• Measurement equipment at Midstream's Lee Hill Interconnect at the terminus of the proposed YM59 Pipeline in Tioga County;

• Perform minor modifications at National Fuel's existing Ellisburg Compressor Station,² in Potter County, including replacing/installing measurement, OPP devices, flow control, and other associated appurtenances; and

² National Fuel does not propose any changes to compressor units or to the certificated capacity at the Ellisburg Compressor Station.

• Construct one new remote-control valve setting and install a new cathodic protection ground bed along the Line YM59 Pipeline in Tioga County.

The Commission mailed a copy of the Notice of Availability of the EA to Federal, State, and local government representatives and agencies; elected officials; non-governmental organizations, environmental and public interest groups; potentially interested Native American Tribes; potentially affected landowners; local libraries; churches; and newspapers in the Project area. The EA is only available in electronic format. It may be viewed and downloaded from FERC's website (www.ferc.gov), on the natural gas environmental documents page (https://www.ferc.gov/industries-data/natural-gas/environment/environmental-documents). In addition, the EA may be accessed by using the eLibrary link on FERC's website. Click on the eLibrary link (https://elibrary.ferc.gov/eLibrary/search), select “General Search” and enter the docket number in the “Docket Number” field, (i.e., CP24-514). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this Project, it is important that we receive your comments in Washington, DC on or before 5:00 p.m. Eastern Time on March 17, 2025.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the Project docket number (CP24-514-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the Project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: February 13, 2025.
Debbie-Anne A. Reese,
Secretary.

[FR Doc. 2025-02838 Filed 2-19-25; 8:45 am]

BILLING CODE 6717-01-P